DEPARTMENT OF COMMERCE

International Trade Administration

[A-489-810]

Notice of Amended Preliminary Determination of Sales at Less Than Fair Value; Certain Cold-Rolled Carbon Steel Flat Products From Turkey

AGENCY: Import Administration, International Trade Administration, Department of Commerce.

ACTION: Notice of Amended Preliminary Determination of Sales at Less Than Fair Value.

EFFECTIVE DATE: June 19, 2002.

FOR FURTHER INFORMATION CONTACT: Melissa Blackledge, or Robert James, Antidumping and Countervailing Duty Enforcement Group III, Import Administration, International Trade Administration, U.S. Department of Commerce, 14th Street and Constitution Avenue, NW, Washington, DC 20230, at (202) 482-3518, or (202) 482-0649, respectively.

SUPPLEMENTARY INFORMATION:

Applicable Statute and Regulations:

Unless otherwise indicated, all citations to the statute are references to the provisions effective January 1, 1995, the effective date of the amendments made to the Tariff Act of 1930 (the Tariff Act) by the Uruguay Round Agreements Act. In addition, unless otherwise indicated, all citations to the Department of Commerce's (the Department's) regulations refer to the regulations codified at 19 CFR part 351 (2001).

Amendment to the Preliminary Determination

On April 26, 2002, the Department determined that certain cold-rolled carbon steel flat products (cold-rolled steel) from Turkey are being, or are likely to be, sold in the United States at less than fair value (LTFV), as provided in section 735(a) of the Tariff Act. See Notice of Preliminary Determination of Sales at Less Than Fair Value: Certain Cold-Rolled Carbon Steel Flat Products From Turkey, 67 FR 31264 (May 9, 2002) (Preliminary Determination). On May 7, 2002, respondent Borcelik Celik Sanayii ve Ticaret A.S. (Borcelik) timely filed an allegation that the Department had made several ministerial errors in its preliminary determination. Borcelik requested that we correct the errors and publish a notice of amended preliminary determination in the Federal Register. See 19 CFR 351.224(e).

Borcelik's submission alleges the following errors:

• the Department inadvertently omitted programming language used to create a model data set for the home market sales file containing a single record for each CONNUM and month combination, thus obviating our intention to match sales by month;

• the Department inadvertently deducted billing adjustments 4 and 5 reported by affiliated reseller/service center Kerim Celik in the net price calculation when these adjustments should have been additions to revenue;

• for sales by Kerim Celik, total costs of producing the cold-rolled coil at Borcelik were unintentionally deducted by the Department rather than deducting the cost of further processing performed by Kerim Celik, reported as TOTCOP, and scrap (SCRAP);

• the Department used inaccurate exchange rates;

• the Department incorrectly recalculated Borcelik's G&A expense ratio excluding miscellaneous adjustments to G&A expenses reported by respondent;

• the Department relied upon total cost of production, instead of total cost of manufacturing, in calculating the twenty percent difference-in-merchandise test; and

• the Department unintentionally used the Turkish lira prices to calculate normal value, instead of using the U.S. dollar prices negotiated for most home market sales.

See Letter, Dickstein Shapiro Morin & Oshinsky LLP, May 7, 2002 passim.

The Department's regulations define a ministerial error as one involving “addition, subtraction, or other arithmetic function, clerical error resulting from inaccurate copying, duplication or the like, and any other similar type of unintentional error which the Secretary considers ministerial.” 19 CFR 351.224(f). A significant ministerial error is defined as an error, the correction of which, singly or in combination with other errors, would result in (1) a change of at least five absolute percentage points in, but not less than 25 percent of, the weighted-average dumping margin calculated in the original preliminary determination; or (2) a difference between a weighted-average dumping margin of zero or de minimis and a weighted-average dumping margin of greater than de minimis or vice versa. See 19 CFR 351.224(g).

After reviewing respondent's allegations we have determined, in accordance with 19 CFR 351.224(e), that the Preliminary Determination includes five ministerial errors, which together constitute significant ministerial errors. We agree that the following five allegations raised by Borcelik constitute significant ministerial errors: i) monthly model matching; ii) Kerim Celik's billing adjustments 4 and 5; iii) Kerim Celik's further processing costs; iv) improper exchange rates; and v) the calculation of differences in merchandise. See Memorandum For Richard Weible; “Allegations of Ministerial Errors; Preliminary Determination in the Investigation of Certain Cold-Rolled Carbon Steel Flat Products from Turkey” (Ministerial Errors Memorandum), dated June 12, 2002, a public version of which is on file in room B-099 of the main Commerce building, and the Preliminary Determination, 67 FR at 31264.

The alleged ministerial errors with which we do not agree concern (1) the respondent's assertion that the Department inadvertently omitted miscellaneous adjustments from the revised G&A ratio and (2) the respondent's assertion that we unintentionally used the Turkish lira prices in calculating normal value. For a detailed description of all of these allegations and, where applicable, our resultant corrections, see the Ministerial Errors Memorandum. Therefore, in accordance with 19 CFR 351.224(e), we are amending the preliminary determination of the antidumping duty investigation of certain cold-rolled carbon steel flat products from Turkey to reflect the correction of significant ministerial errors made in the margin calculation regarding Borcelik. The revised weighted-average dumping margins are in the “Amended Preliminary Determination” section, below.

Scope Of The Investigation

For purposes of this investigation, the products covered are certain cold-rolled (cold-reduced) flat-rolled carbon-quality steel products. For a full description of the scope of this investigation, as well as a complete discussion of all scope exclusion requests submitted in the context of the on-going cold-rolled steel investigations, see the “Scope Appendix” attached to the Notice of Preliminary Determination of Sales at Less Than Fair Value: Certain Cold-Rolled Carbon Steel Flat Products from Argentina, 67 FR 31181 (May 9, 2002).

Amended Preliminary Determination

We are amending the preliminary determination of the antidumping duty investigation of certain cold-rolled carbon steel flat products from Turkey to reflect the correction of the above-cited ministerial errors. The revised preliminary weighted-average dumping margins are as follows:

Manufacturer/Exporter | Weighted-Average Margin
Borcelik Celik Sanayii ve Ticaret A.S. (Borcelik) | 7.70 %
All Others | 7.70 %

Suspension Of Liquidation

In accordance with section 735(c)(1)(B) of the Tariff Act, we are directing the United States Customs Service (Customs) to continue suspending liquidation on all imports of the subject merchandise from Turkey. Customs shall require a cash deposit or the posting of a bond equal to the weighted-average amount by which normal value exceeds the export price as indicated in the chart above. These suspension-of-liquidation instructions will remain in effect until further notice.

ITC Notification

In accordance with section 735(d) of the Tariff Act, we have notified the International Trade Commission of our amended preliminary determination.

This determination is issued and published in accordance with section 733(f) and 777(i)(1) of the Tariff Act of 1930, as amended.

Dated: June 12, 2002
Richard W. Moreland,
Acting Assistant Secretary for Import Administration.

[FR Doc. 02-15482 Filed 6-18-02; 8:45 am]

BILLING CODE 3510-DS-S